DEPARTMENT OF HOMELAND SECURITY

Coast Guard

33 CFR Part 117

[Docket No. USCG-2017-0060]

RIN 1625-AA09

Drawbridge Operation Regulation; Banana River, Indian Harbour Beach, FL

AGENCY: Coast Guard, DHS.

ACTION: Notice of proposed rulemaking; reopening comment period.

SUMMARY: The Coast Guard is re-opening the comment period to solicit additional comments concerning its Notice of Proposed Rulemaking, published in April 2017 that proposes to change the regulation governing Mathers Bridge across the Banana River, mile 0.5, in Indian Harbour Beach, FL. The Coast Guard District Seven Bridge Office received a request from the City of Indian Harbour Beach, Florida requesting to re-open the comment period in order to allow members of the public to comment that did not have awareness of the initial notice and comment period.

DATES: Comments and relate material must reach the Coast Guard on or before November 22, 2017.

ADDRESSES: You may submit comments identified by docket number USCG-2017-0060 using Federal eRulemaking Portal at http://www.regulations.gov.

See the “Public Participation and Request for Comments” portion of the SUPPLEMENTARY INFORMATION section below for instructions on submitting comments.

FOR FURTHER INFORMATION CONTACT: If you have questions on this proposed rule, call or email LT Allen Storm with Coast Guard Sector Jacksonville Waterways; telephone 904-714-7616, email Allan.H.Storm@uscg.mil.

SUPPLEMENTARY INFORMATION:

I. Background and Purpose

On April 24, 2017, we published a notice of proposed rulemaking (NPRM) entitled, “Banana River, Indian Harbour Beach, FL” in the Federal Register (82 FR 18877). The original comment period closed on June 23, 2017. The NPRM proposed the initial change to the regulation governing the Mathers Bridge across the Banana River, mile 0.5, in Indian Harbour Beach, FL and contains useful background and analysis related to the initial proposed change. The public is encouraged to review the NPRM.

The City of Indian Harbour Beach notified the Seventh Coast Guard District Bridge Office they were unaware of the proposed regulation change as it impacts their residents. Reopening the comment period and providing notification of this action to the local media should accomplish the goal intended, which is to reach a broader range of waterway and highway users.

II. Public Participation and Request for Comments

Public participation is essential to effective rulemaking, and consideration of all comments and material received during the comment period will be made. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in this docket and all public comments, will be in our online docket at http://www.regulations.gov and can be viewed by following that Web site's instructions. Additionally, if you go to the online docket and sign up for email alerts, you will be notified when comments are posted or a final rule is published.

This notice, re-opening the comment period, ensures notice and opportunity to comment on the NPRM before making the proposed changes final. This notice is issued under authority of 33 U.S.C. 1223 and 5 U.S.C. 552.

Dated: October 17, 2017.
Peter J. Brown,
Rear Admiral, U.S. Coast Guard, Commander, Seventh Coast Guard District.

[FR Doc. 2017-22937 Filed 10-20-17; 8:45 am]

BILLING CODE 9110-04-P